DEPARTMENT OF THE INTERIOR

Bureau of Land Management

[LLNM920000 L13100000 FI0000; NMNM-112882, NMNM-112883]

Notice of Proposed Reinstatement of Terminated Oil and Gas Leases NMNM 112882 and NMNM 112883

AGENCY: Bureau of Land Management, Interior.

ACTION: Notice.

SUMMARY: Under the Class II provisions of Title IV of the Federal Oil and Gas Royalty Management Act of 1982, the Bureau of Land Management received a petition for reinstatement of oil and gas leases NMNM 112882 and NMNM 112883 from the lessee Clayton Williams Energy, Inc., for lands in Eddy County, New Mexico. The petition was filed on time and was accompanied by all the rentals due since the date the leases terminated under the law.

FOR FURTHER INFORMATION CONTACT: Lourdes B. Ortiz, Bureau of Land Management, New Mexico State Office, P.O. Box 27115, Santa Fe, New Mexico 87502-0115 or at (505) 954-2146. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: No valid lease has been issued that affects the lands. The lessees agree to new lease terms for rentals and royalties of $10 per acre or fraction thereof, per year, and 16⅔ percent, respectively. The lessee paid the required $500 administrative fee for the reinstatement of the leases and $166 cost for publishing this Notice in the Federal Register. The lessees met all the requirements for reinstatement of the leases as set out in Section 31(d) and (e) of the Mineral Leasing Act of 1920 (30 U.S.C. 188). We are proposing to reinstate leases NMNM 112882 and NMNM 112883, effective the date of termination, January 1, 2012, under the original terms and conditions of the lease and the increased rental and royalty rates cited above.

Lourdes B. Ortiz,
Land Law Examiner, Fluids Adjudication Team.

[FR Doc. 2012-10428 Filed 4-30-12; 8:45 am]

BILLING CODE 4310-FB-P